DEPARTMENT OF LABOR

Employment and Training Administration

[TA-W-37,240]

Chevron Products Company, Roosevelt, UT; Dismissal of Application for Reconsideration

Pursuant to 29 CFR 90.18(C) an application for administrative reconsideration was filed with the Director of the Division of Trade Adjustment Assistance for workers at Chevron Products Company, Roosevelt, Utah. The application contained no new substantial information which would bear importantly on the Department's determination. Therefore, dismissal of the application was issued.

TA-W-37,240; Chevron Products Company, Roosevelt, Utah (March 29, 2000)

Signed in Washington, D.C. this 29th day of March, 2000.
Grant D. Beale,
Program Manager, Division of Trade Adjustment Assistance.

[FR Doc. 00-8914 Filed 4-10-00; 8:45 am]

BILLING CODE 4510-30-M